COMMITTEE FOR PURCHASE FROM PEOPLE WHO ARE BLIND OR SEVERELY DISABLED

Procurement List; Proposed Additions and Deletions

AGENCY: Committee for Purchase From People Who Are Blind or Severely Disabled.

ACTION: Proposed additions to and deletions from procurement list.

SUMMARY: The Committee is proposing to add to the Procurement List services to be furnished by nonprofit agencies employing persons who are blind or have other severe disabilities, and to delete products previously furnished by such agencies.

Comments Must Be Received On Or Before: June 19, 2005.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, Telephone: (703) 603-7740, Fax: (703)603-0655, or e-mail SKennerly@jwod.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Custodial Services (At the following locations), Desert Chemical Depot, Utah, Tooele Army Depot, Tooele, Utah.

NPA: Pioneer Adult Rehabilitation Center Davis County School District, Clearfield, Utah.

Contracting Activity: U.S. Army Field Support Command, Rock Island, Illinois.

Service Type/Location: Custodial Services, William R. Burke Courthouse, Third Street and Lufkin Avenue, Lufkin, Texas.

NPA: Burke Center, Inc., Lufkin, Texas.

Contracting Activity: GSA, Public Buildings Service, Central Area—7PCD, Dallas, Texas.

Service Type/Location: Document Destruction, Department of Agriculture, Farm Service Agency, 6501 Beacon Drive, Kansas City, Missouri.

NPA: Independence and Blue Springs Industries, Inc., Independence, Missouri.

Contracting Activity: Department of Agriculture, Farm Service Agency, Kansas City, Missouri.

Service Type/Location: Mail Delivery Services (At the following locations at Fort Hood, Texas),

11 Army Secure Operating Systems, Building 22019, 22019 53rd Street,

712 Army Secure Operating Systems, Building 22020, 22020 53rd Street,

9 Army Secure Operating Systems & 3 WS, Building 90042, 90042 Clarke Road,

Dormitory, Building 91220, Headquarters Avenue, Room C104,

III Corps Building, 1001 761st Tank Battalion Avenue, Fort Hood, Texas.

NPA: Professional Contract Services, Inc., Austin, Texas.

Contracting Activity: 2nd Contracting Squadron/LGC, Barksdale AFB, Louisiana.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Belt, Automobile, Safety NSN: 2540-00-894-1273—Belt, Automobile, Safety

NSN: 2540-00-894-1275—Belt, Automobile, Safety

NSN: 2540-00-894-1276—Belt, Automobile, Safety

NSN: 2540-00-894-1274—Belt, Automobile, Safety

NPA: Arizona Industries for the Blind, Phoenix, Arizona.

Contracting Activity: Defense Supply Center Columbus, Columbus, Ohio.

Tray, Desk

NSN: 7520-00-232-6828—Tray, Desk.

NPA: Opportunity Workshop of Lexington, Inc., Lexington, Kentucky.

Contracting Activity: GSA/Office Supplies & Paper Products Acquisition Center New York, NY.

Sheryl D. Kennerly,
Director, Information Management.

[FR Doc. E5-2531 Filed 5-19-05; 8:45 am]

BILLING CODE 6353-01-P